DEPARTMENT OF COMMERCE

National Institute of Standards and Technology

National Construction Safety Team Advisory Committee Meeting

AGENCY: National Institute of Standards and Technology, United States Department of Commerce.

ACTION: Notice of partially closed meeting.

SUMMARY: The National Construction Safety Team (NCST) Advisory Committee (Committee), National Institute of Standards and Technology (NIST), will meet Tuesday, October 5, 2004, from 8:30 a.m. to 5 p.m. and Wednesday, October 6, 2004, from 8:30 a.m. to 3 p.m. The primary purpose of this meeting is to discuss draft findings of the Federal Building and Fire Safety Investigation of the World Trade Center Disaster (WTC Investigation) and the Rhode Island Nightclub Investigation. Consequently, all of the first day and all but the last one and one-half hours of the second day will be held in closed session. The agenda may change to accommodate Committee business. The final agenda will be posted on the NIST Web site at http://www.nist.gov/ncst.

DATES: The meeting will convene on October 5, 2004, at 8:30 a.m. and will adjourn at 3 p.m. on October 6, 2004. The closed portion of the meeting is scheduled to begin on October 5 at 8:30 a.m. and to end at 1:45 p.m. on October 6, 2004. The last portion of the meeting from 2 p.m. to 3 p.m. on October 6, 2004, will be open to the public.

ADDRESSES: The meeting will be held in the Administration Building, Room A1038 at NIST, Gaithersburg, Maryland. Please note admittance instructions under the SUPPLEMENTARY INFORMATION section of this notice.

FOR FURTHER INFORMATION CONTACT: Stephen Cauffman, National Construction Safety Team Advisory Committee, National Institute of Standards and Technology, 100 Bureau Drive, MS 8611, Gaithersburg, Maryland 20899-8611. Mr. Cauffman's e-mail address is stephen.cauffman@nist.gov and his phone number is (301) 975-6051.

SUPPLEMENTARY INFORMATION: The Committee was established pursuant to Section 11 of the National Construction Safety Team Act (15 U.S.C. 7310 et seq.). The Committee is composed of nine members appointed by the Director of NIST who were selected for their technical expertise and experience, established records of distinguished professional service, and their knowledge of issues affecting teams established under the NCST Act. The Committee will advise the Director of NIST on carrying out investigations of building failures conducted under the authorities of the NCST Act that became law in October 2002 and will review the procedures developed to implement the NCST Act and reports issued under section 8 of the NCST Act. Background information on the NCST Act and information on the NCST Advisory Committee is available at http://www.nist.gov/ncst.

Pursuant to the Federal Advisory Committee Act, 5 U.S.C. app. 2, notice is hereby given that the National Construction Safety Team (NCST) Advisory Committee (Committee), National Institute of Standards and Technology (NIST), will meet Tuesday, October 5, 2004, from 8:30 a.m. to 5 p.m. and Wednesday, October 6, 2004, from 8:30 a.m. to 3 p.m. at NIST headquarters in Gaithersburg, Maryland.

The primary purpose of this meeting is to present draft findings of the Federal Building and Fire Safety Investigation of the World Trade Center Disaster (WTC Investigation) and the Rhode Island Nightclub Investigation. The Assistant Secretary for Administration, with the concurrence of the General Counsel, formally determined on August 2, 2004, that portions of the meeting of the National Construction Safety Team Advisory Committee that involve discussions regarding the proprietary information and trade secrets of third parties, data and documents that may also be used in criminal cases or lawsuits, matters the premature disclosure of which would be likely to significantly frustrate implementation of a proposed agency action, and data collection status and the issuance of subpoenas may be closed in accordance with 5 U.S.C. 552b(c)(4), (5), (9)(B), and (10) respectively. Consequently, all of the first day and all but the last one and one-half hours of the second day will be held in closed session. The agenda may change to accommodate Committee business. The final agenda will be posted on the NIST Web site at http://www.nist.gov/ncst.

Individuals and representatives of organizations who would like to offer comments and suggestions related to the Committee's affairs, the WTC Investigation, or the Rhode Island Investigation are invited to request a place on the agenda. On October 6, 2004, approximately one-half hour will be reserved for public comments, and speaking times will be assigned on a first-come, first-served basis. The amount of time per speaker will be determined by the number of requests received, but is likely to be 5 minutes each. Questions from the public will not be considered during this period. Speakers who wish to expand upon their oral statements, those who had wished to speak but could not be accommodated on the agenda, and those who were unable to attend in person are invited to submit written statements to the National Construction Safety Team Advisory Committee, National Institute of Standards and Technology, 100 Bureau Drive, MS 8611, Gaithersburg, Maryland 20899-8611, via fax at (301) 975-6122, or electronically by e-mail to ncstac@nist.gov.

All visitors to the NIST site are required to pre-register to be admitted. Anyone wishing to attend this meeting must register by close of business Friday, October 1, 2004, in order to attend. Please submit your name, time of arrival, e-mail address and phone number to Stephen Cauffman and he will provide you with instructions for admittance. Non-U.S. citizens must also submit their country of citizenship, title, employer/sponsor, and address. Mr. Cauffman's e-mail address is stephen.cauffman@nist.gov and his phone number is (301) 975-6051.

Dated: September 9, 2004.
Hratch G. Semerjian,
Acting Director.

[FR Doc. 04-20741 Filed 9-14-04; 8:45 am]

BILLING CODE 3510-13-P